DEPARTMENT OF HEALTH AND HUMAN SERVICES

National Institutes of Health

National Cancer Institute, Amended Notice of Meeting

Notice is hereby given of a change in the meeting of the National Cancer Institute Special Emphasis Panel, February 13, 2007, 8:00 a.m. to February 15, 2007, 5 p.m., Hyatt Regency bethesda, One Bethesda Metro Center, 7400 Wisconsin Avenue, Bethesda, MD, 20814 which was published in the Federal Register on November 30, 2006, 71 FR 69211.

The meeting notice is changed to reflect the name of the committee from “SPORE II” to “SPORE in Prostate, Breast and Skin Cancer.” The meeting is closed to the public.

Dated: December 20, 2006.
Anna Snouffer,
Acting Director, Office of Federal Advisory Committee Policy.

[FR Doc. 06-9888 Filed 12-28-06; 8:45 am]

BILLING CODE 4140-01-M